SMALL BUSINESS ADMINISTRATION

Region I Advisory Council Meeting; Public Meeting

The New England States Regulatory Fairness Board will hold a public hearing on August 22, 2000, at 1 p.m. located at Holiday Inn, Manchester Center, 700 Elm Street, Manchester, NH to receive comments and testimony from small businesses and representatives of trade associations concerning federal regulatory enforcement or compliance actions taken by federal agencies. Transcripts of these proceedings will be posted on the Internet. These transcripts are subject only to limited review by the National Ombudsman. For further information, call Elestine Harvey (312) 353-1744.

Bettie Baca,
Counselor to the Administrator/Public Liaison

[FR Doc. 00-16981 Filed 7-5-00; 8:45 am]

BILLING CODE 8025-01-M